DEPARTMENT OF HEALTH AND HUMAN SERVICES

National Institutes of Health

National Cancer Institute; Amended Notice of Meeting

Notice is hereby given of a change in the meeting of the National Cancer Institute Special Emphasis Panel, July 20, 2017, 11:00 a.m. to July 20, 2017, 05:00 p.m., National Cancer Institute Shady Grove, Shady Grove, 9609 Medical Center Drive, 7W102, Rockville, MD 20850 which was published in the Federal Register on May 31, 2017, 82 FR 24983.

The meeting notice is amended to change the meeting title to “Core Infrastructure & Epidemiology Cohorts”. The meeting date has been changed to August 8, 2017 and the contact person has been changed to Shakeel Ahmad, Ph.D.; phone 240-276-6349; ahmads@mail.nih.gov. The meeting is closed to the public.

Dated: July 6, 2017.
Melanie J. Pantoja,
Program Analyst, Office of Federal Advisory Committee Policy.

[FR Doc. 2017-14539 Filed 7-11-17; 8:45 am]

BILLING CODE 4140-01-P